DEPARTMENT OF ENERGY

Federal Energy Regulatory Commission

Combined Notice of Filings #1

Take notice that the Commission received the following electric rate filings:

Docket Numbers: ER15-1905-015.

Applicants: AZ721 LLC.

Description: Notice of Change in Status of Amazon Energy LLC.

Filed Date: 1/24/24.

Accession Number: 20240124-5176.

Comment Date: 5 p.m. ET 2/14/24.

Docket Numbers: ER18-2511-007; ER23-2874-001.

Applicants: NorthWestern Energy Public Service Corporation, NorthWestern Corporation.

Description: Notice of Change in Status of NorthWestern Corporation, et. al.

Filed Date: 1/23/24.

Accession Number: 20240123-5157.

Comment Date: 5 p.m. ET 2/13/24.

Docket Numbers: ER20-1996-004; ER16-1990-004; ER17-239-003; ER20-1014-001; ER20-1015-001; ER20-2458-001; ER21-285-001; ER21-1187-003; ER21-1188-003; ER21-1217-003; ER21-1218-003; ER21-1370-004; ER21-1916-002; ER21-1961-002.

Applicants: Big River Solar, LLC, Assembly Solar III, LLC, Assembly Solar II, LLC, St. James Solar, LLC, Iris Solar, LLC, Prairie State Solar, LLC, Dressor Plains Solar, LLC, Sigurd Solar LLC, Hunter Solar LLC, Cove Mountain Solar 2, LLC, Cove Mountain Solar, LLC,TPE Alta Luna, LLC, North Star Solar PV LLC, Assembly Solar I, LLC.

Description: Notice of Change in Status of Assembly Solar I, LLC, et. al.

Filed Date: 1/25/24.

Accession Number: 20240125-5039.

Comment Date: 5 p.m. ET 2/15/24.

Docket Numbers: ER24-986-000.

Applicants: Keystone Appalachian Transmission Company, PJM Interconnection, L.L.C.

Description: § 205(d) Rate Filing: Keystone Appalachian Transmission Company submits tariff filing per 35.13(a)(2)(iii: KATCo submits amended IAs, SA Nos. 3998 and 3999 re: FirstEnergy Reorganization to be effective 1/1/2024.

Filed Date: 1/24/24.

Accession Number: 20240124-5133.

Comment Date: 5 p.m. ET 2/14/24.

Docket Numbers: ER24-987-000.

Applicants: FirstEnergy Pennsylvania Electric Company, PJM Interconnection, L.L.C.

Description: § 205(d) Rate Filing: FirstEnergy Pennsylvania Electric Company submits tariff filing per 35.13(a)(2)(iii: FE PA submits amended IAs, SA Nos. 4338 and 4341 re: FirstEnergy Reorganization to be effective 1/1/2024.

Filed Date: 1/24/24.

Accession Number: 20240124-5136.

Comment Date: 5 p.m. ET 2/14/24.

Docket Numbers: ER24-988-000.

Applicants: PJM Interconnection, L.L.C.

Description: Tariff Amendment: Cancellation of WMPA, SA No. 5767; AF2-283 to be effective 3/25/2024.

Filed Date: 1/24/24.

Accession Number: 20240124-5138.

Comment Date: 5 p.m. ET 2/14/24.

Docket Numbers: ER24-989-000.

Applicants: PJM Interconnection, L.L.C.

Description: Tariff Amendment: Cancellation of WMPA, SA No. 5768; AF2-284 to be effective 3/25/2024.

Filed Date: 1/24/24.

Accession Number: 20240124-5140.

Comment Date: 5 p.m. ET 2/14/24.

Docket Numbers: ER24-990-000.

Applicants: FirstEnergy Pennsylvania Electric Company, PJM Interconnection, L.L.C.

Description: § 205(d) Rate Filing: FirstEnergy Pennsylvania Electric Company submits tariff filing per 35.13(a)(2)(iii: FE PA submits amended IA, SA No. 5504 re: FirstEnergy Reorganization to be effective 1/1/2024.

Filed Date: 1/24/24.

Accession Number: 20240124-5144.

Comment Date: 5 p.m. ET 2/14/24.

Docket Numbers: ER24-991-000.

Applicants: PJM Interconnection, L.L.C.

Description: Tariff Amendment: Cancellation of WMPA, SA No. 5769; AF2-285 to be effective 3/25/2024.

Filed Date: 1/24/24.

Accession Number: 20240124-5149.

Comment Date: 5 p.m. ET 2/14/24.

Docket Numbers: ER24-992-000.

Applicants: PJM Interconnection, L.L.C.

Description: Tariff Amendment: Cancellation of WMPA, SA No. 5754; AF2-289 to be effective 3/25/2024.

Filed Date: 1/24/24.

Accession Number: 20240124-5155.

Comment Date: 5 p.m. ET 2/14/24.

Docket Numbers: ER24-993-000.

Applicants: FirstEnergy Pennsylvania Electric Company, PJM Interconnection, L.L.C.

Description: § 205(d) Rate Filing: FirstEnergy Pennsylvania Electric Company submits tariff filing per 35.13(a)(2)(iii: FE PA submits amended IAs, SA Nos. 3993 and 5030 re: FirstEnergy Reorganization to be effective 1/1/2024.

Filed Date: 1/24/24.

Accession Number: 20240124-5159.

Comment Date: 5 p.m. ET 2/14/24.

Docket Numbers: ER24-994-000.

Applicants: PJM Interconnection, L.L.C.

Description: Tariff Amendment: Cancellation of ISA, SA No. 6475; AE1-079 to be effective 3/25/2024.

Filed Date: 1/24/24.

Accession Number: 20240124-5163.

Comment Date: 5 p.m. ET 2/14/24.

Docket Numbers: ER24-995-000.

Applicants: PJM Interconnection, L.L.C.

Description: Tariff Amendment: Cancellation of ISA, SA No. 6454; AE1-237 to be effective 3/26/2024.

Filed Date: 1/25/24.

Accession Number: 20240125-5007.

Comment Date: 5 p.m. ET 2/15/24.

Docket Numbers: ER24-996-000.

Applicants: Airport Solar LLC.

Description: § 205(d) Rate Filing: Revised Market-Based Rate Tariff Filing to be effective 3/26/2024.

Filed Date: 1/25/24.

Accession Number: 20240125-5008.

Comment Date: 5 p.m. ET 2/15/24.

Docket Numbers: ER24-997-000.

Applicants: Cove Mountain Solar, LLC.

Description: § 205(d) Rate Filing: Revised Market-Based Rate Tariff Filing to be effective 3/26/2024.

Filed Date: 1/25/24.

Accession Number: 20240125-5009.

Comment Date: 5 p.m. ET 2/15/24.

Docket Numbers: ER24-998-000.

Applicants: Cove Mountain Solar 2, LLC.

Description: § 205(d) Rate Filing: Revised Market-Based Rate Tariff Filing to be effective 3/26/2024.

Filed Date: 1/25/24.

Accession Number: 20240125-5011.

Comment Date: 5 p.m. ET 2/15/24.

Docket Numbers: ER24-999-000.

Applicants: Hunter Solar LLC.

Description: § 205(d) Rate Filing: Revised Market-Based Rate Tariff Filing to be effective 3/26/2024.

Filed Date: 1/25/24.

Accession Number: 20240125-5012.

Comment Date: 5 p.m. ET 2/15/24.

Docket Numbers: ER24-1000-000.

Applicants: Sigurd Solar LLC.

Description: § 205(d) Rate Filing: Revised Market-Based Rate Tariff Filing to be effective 3/26/2024.

Filed Date: 1/25/24.

Accession Number: 20240125-5014.

Comment Date: 5 p.m. ET 2/15/24.

Docket Numbers: ER24-1001-000.

Applicants: PJM Interconnection, L.L.C.

Description: Tariff Amendment: Cancellation of ISA, SA No. 6239; AE2-343 to be effective 3/26/2024.

Filed Date: 1/25/24.

Accession Number: 20240125-5016.

Comment Date: 5 p.m. ET 2/15/24.

Docket Numbers: ER24-1002-000.

Applicants: PJM Interconnection, L.L.C.

Description: § 205(d) Rate Filing: Original NSA, Service Agreement No. 7157; AD1-087/AD2-202 to be effective 3/26/2024.

Filed Date: 1/25/24.

Accession Number: 20240125-5026.

Comment Date: 5 p.m. ET 2/15/24.

Docket Numbers: ER24-1003-000.

Applicants: Southern California Edison Company.

Description: § 205(d) Rate Filing: SCE 2024 WDAT Enhancements to be effective 3/26/2024.

Filed Date: 1/25/24.

Accession Number: 20240125-5042.

Comment Date: 5 p.m. ET 2/15/24.

Docket Numbers: ER24-1004-000.

Applicants: Southwest Power Pool, Inc.

Description: § 205(d) Rate Filing: 3552R4 TEA and MEAN Meter Agent Agreement to be effective 1/1/2024.

Filed Date: 1/25/24.

Accession Number: 20240125-5051.

Comment Date: 5 p.m. ET 2/15/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5 p.m. eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 25, 2024.
Debbie-Anne A. Reese,
Acting Secretary.

[FR Doc. 2024-01905 Filed 1-30-24; 8:45 am]

BILLING CODE 6717-01-P